COMMITTEE FOR PURCHASE FROM PEOPLE WHO ARE BLIND OR SEVERELY DISABLED

Procurement List; Additions

AGENCY: Committee for Purchase from People Who Are Blind or Severely Disabled.

ACTION: Additions to Procurement List.

SUMMARY: This action adds to the Procurement List products and services to be furnished by nonprofit agencies employing persons who are blind or have other severe disabilities.

DATES: Effective Date: April 3, 2005.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: On October 1, 2004 and January 7, 2005, the Committee for Purchase From People Who Are Blind or Severely Disabled published notice (69 FR 58882 and 70 FR 1413) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

The following comments pertain to Commissary Shelf Stocking, Custodial & Warehousing, Offutt Air Force Base, Nebraska.

Comments were received from the current contractor indicating that he had previously been impacted by the Committee's actions that have slowed business growth and impacted employees. Besides the impact calculated as a percent of gross sales the commenter believes that when the Committee determines impact it should also consider the effect on the current employees, the increased cost of unemployment insurance on the impacted company and how the Committee determines the effect of previous additions that impacted the contractor.

In addition the commenter raised question about the capability of the nonprofit agency to do the commissary work, if it is a Nebraska nonprofit agency and how would he know that the 75 percent direct labor ratio requirement was being met.

The Committee recognizes that when it adds a product or service to the Procurement List that many of the existing workers will lose their current jobs. The proposed addition to the Procurement List is projected to create over 18 jobs for people with severe disabilities, whose unemployment rate is over 70 percent, well above the rate for other groups. The benefit to people with severe disabilities created by this Procurement List addition outweighs the harm which may be done to the firm's employees who could more readily find other jobs.

The commenter is correct that the Committee must consider previous impact(s) when it adds an item to the Procurement List. It is the Committee's practice to consider the cumulative impact of its actions for the most recent three-year period expressed as a percentage of firm's current total sales. In addition, the Committee also looks at all other occurrences where the current contractor has been impacted. The current contractor has been previously impacted four times, twice in 1992, once in 1997, and once in 2000.

The Committee does not believe that these actions over a decade reflect an excessive amount of impact, nor does it believe that the increase in unemployment premiums the contractor experienced because some jobs were lost to the JWOD Program raises the total impact to the severe level.

BH Services, Inc. has been found technically capable of performing the service. The nonprofit agency that will be performing this project has successfully been participating in the JWOD Program since 1974. It has been successfully providing commissary services at another location since 1989 and other services at Offutt AFB since 1996.

As with small businesses, there is no requirement that a nonprofit agency be incorporated in the State where the Federal contract is being performed. The nonprofit agency that will perform the work is actually incorporated in South Dakota, but as noted above has been providing services at Offutt AFB since 1996.

The 75 percent direct labor ratio requirement is a requirement for all of the work done by a nonprofit and does not necessarily apply to an individual JWOD project. However, the nonprofit agency that will be performing the commissary project at Offutt has a direct labor ratio on its current JWOD projects of over 80%.

The following material pertains to all of the items being added to the Procurement List.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Flat Highlighter, Yellow, 7520-01-201-7791.

NPA: Winston-Salem Industries for the Blind, Winston-Salem, North Carolina.

Contracting Activity: Office Supplies & Paper Products Acquisition Center, New York, NY.

Product/NSN: Laser Labels, 7530-01-289-8190—White label size—1″ x 4″; 7530-01-289-8191—White label size—1″ x 2⅝″; 7530-01-302-5504—White label size—1⅓″ x 4″; 7530-01-336-0540—White label size—2″ x 4″; 7530-01-349-4463—White label size—8½″ x 11″; 7530-01-349-4464—White label size—3⅓″ x 4.″

NPA: North Central Sight Services, Inc., Williamsport, Pennsylvania.

Contracting Activity: Office Supplies & Paper Products Acquisition Center, New York, NY.

Services

Service Type/Location: Commissary Shelf Stocking, Custodial & Warehousing, Offutt Air Force Base, Nebraska.

NPA: BH Services, Inc., Box Elder, South Dakota.

Contracting Activity: Defense Commissary Agency, Fort Lee, Virginia.

Service Type/Location: Custodial & Grounds Maintenance, Navy and Marine Corps Reserve Center, 314 Graves Mill Road, Lynchburg, Virginia.

NPA: Goodwill Industries of the Valleys, Inc., Roanoke, Virginia.

Contracting Activity: Naval Facilities Engineering Command Contracts, Norfolk, Virginia.

Service Type/Location: Laundry Service, Veterans Integrated Service Network (VISN12), Jesse Brown VA Medical Center, Chicago, Illinois (and it's divisions), VA Medical Center Hines, Hines, Illinois.

NPA: Goodwill Industries of Southeastern Wisconsin, Inc., Milwaukee, Wisconsin.

Contracting Activity: VISN 12, Great Lakes Network, Milwaukee, Wisconsin.

This action does not affect current contracts awarded prior to the effective date of this addition or options that may be exercised under those contracts.

Sheryl D. Kennerly,
Director, Information Management.

[FR Doc. 05-4256 Filed 3-3-05; 8:45 am]

BILLING CODE 6353-01-P